DEPARTMENT OF TRANSPORTATION

National Highway Traffic Safety Administration

[Docket No. NHTSA-2013-0021; Notice 1]

Notice of Receipt of Petition for Decision That Nonconforming Model Year 2000 East Lancs Lolyne Double Decker Bus Mounted on Volvo B7L Chassis Is Eligible for Importation

AGENCY: National Highway Traffic Safety Administration, DOT.

ACTION: Receipt of petition.

SUMMARY: This document announces receipt by the National Highway Traffic Safety Administration (NHTSA) of a petition for a decision that model year (MY) 2000 East Lancs Lolyne double decker buses mounted on Volvo B7L chasses that were not originally manufactured to comply with all applicable Federal Motor Vehicle Safety Standards (FMVSS) are eligible for importation into the United States because they have safety features that comply with, or are capable of being altered to comply with, all such standards.

DATES: The closing date for comments on the petition is February 25, 2015.

ADDRESSES: Comments should refer to the docket and notice numbers above and be submitted by any of the following methods:

• Federal eRulemaking Portal: Go to http://www.regulations.gov. Follow the online instructions for submitting comments.

• Mail: Docket Management Facility: U.S. Department of Transportation, 1200 New Jersey Avenue SE., West Building Ground Floor, Room W12-140, Washington, DC 20590-0001.

• Hand Delivery or Courier: West Building Ground Floor, Room W12-140, 1200 New Jersey Avenue SE., between 9 a.m. and 5 p.m. ET, Monday through Friday, except Federal holidays.

• Fax: 202-493-2251.

Instructions: Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

How To Read Comments Submitted to the Docket: You may read the comments received by Docket Management at the address and times given above. You may also view the documents from the Internet at http://www.regulations.gov. Follow the online instructions for accessing the dockets. The docket ID number and title of this notice are shown at the heading of this document notice. Please note that even after the comment closing date, we will continue to file relevant information in the Docket as it becomes available. Further, some people may submit late comments. Accordingly, we recommend that you periodically search the Docket for new material.

FOR FURTHER INFORMATION CONTACT: George Stevens, Office of Vehicle Safety Compliance, NHTSA (202-366-5308).

SUPPLEMENTARY INFORMATION:

Background

Under 49 U.S.C. 30141(a)(1)(B), a motor vehicle that was not originally manufactured to conform to all applicable FMVSS, and has no substantially similar U.S.-certified counterpart, shall be refused admission into the United States unless NHTSA has decided that the motor vehicle has safety features that comply with, or are capable of being altered to comply with, all applicable FMVSS based on destructive test data or such other evidence as NHTSA decides to be adequate.

Petitions for eligibility decisions may be submitted by either manufacturers or importers who have registered with NHTSA pursuant to 49 CFR part 592. As specified in 49 CFR 593.7, NHTSA publishes a notice in the Federal Register for each petition that it receives, and affords interested persons an opportunity to comment on the petition. At the close of the comment period, NHTSA decides, on the basis of the petition and any comments that it has received, whether the vehicle is eligible for importation. The agency then publishes its decision in the Federal Register.

US Specs, of Havre de Grave, Maryland (Registered Importer 03-321) has petitioned NHTSA to decide whether nonconforming MY 2000 East Lancs double decker buses mounted on Volvo B7L chasses are eligible for importation into the United States.

US Specs submitted information with its petition intended to demonstrate that non-U.S. certified MY 2000 East Lancs Lolyne double decker buses mounted on Volvo B7L chasses, as originally manufactured, conform to several FMVSS, and are capable of being altered to conform to additional FMVSS.

Specifically, the petitioner claims that non-U.S. certified MY 2000 East Lancs double decker buses mounted on Volvo B7L chasses, as originally manufactured, comply with the following standards:

Standard No. 103 Windshield Defrosting and Defogging Systems: Petitioner submitted a system description, specifications, and photographs meant to indicate compliance with the standard.

Standard No. 106 Brake Hoses: The petition states that the brake hoses comply with standard.

The petitioner also contends that the vehicle is capable of being altered to meet the following standards, in the manners indicated:

Standard No. 101 Controls and Displays: Replacement of the speedometer and installation of a conforming driver's seat belt, parking brake, and brake pressure controls, telltales, and indicators if the vehicle is not already so equipped.

Standard No. 102 Transmission Shift Lever Sequence, Starter Interlock, and Transmission Braking Effect: The petitioner states that the vehicle it inspected complies with the standard. However, each vehicle must be inspected, and if necessary modified to assure compliance with the standard.

Standard No. 104 Windshield Wiping and Washing Systems: The petitioner submitted test reports meant to indicate compliance with the standard; however, each vehicle must be inspected to assure compliance and have the windshield wiping and washing system modified or replaced to be compliant, if necessary.

Standard No. 108 Lamps, Reflective Devices and Associated Equipment: Installation of the following components to meet the requirements of the standard if the vehicle is not already so equipped: tail lamp assemblies, front and rear side lamp assemblies, front and rear clearance lamp assemblies, front and rear identification light assemblies, license plate lamp, headlights, and reflective devices.

Standard No. 111 Rearview Mirrors: Each vehicle must be inspected to assure compliance with the standard. Any non-compliant mirrors will be replaced to meet the requirements of this standard.

Standard No. 119 New Pneumatic Tires for Vehicles Other Than Passenger Cars: Replacement of tires with conforming components if the vehicle is not already so equipped.

Standard No. 120 Tire Selection and Rims for Vehicles Other Than Passenger Cars: Installation of a tire information placard and replacement of rims with conforming components if the vehicle is not already so equipped.

Standard No. 121 Air Brake Systems: Replacement of brake system indicators and replacement of brake system components as required to meet this standard. The petitioner submitted test reports meant to indicate that compliance can be achieved after these modifications are carried out.

Standard No. 124 Accelerator Control Systems: Installation of an accelerator control system component to meet the requirements of this standard. The petitioner submitted documentation intended to show that with this modification, compliance with the standard can be achieved.

Standard No. 205 Glazing Materials: Replacement of glazing as part of the emergency exits installed to meet the requirements of FMVSS Nos. 217. The petitioner submitted photographs detailing labeling and certification of all window exits meant to indicate compliance with the standard.

Standard No. 207 Seating Systems: Replacement of the driver's seating system to meet the requirements of this standard. The petitioner submitted manufacturer test reports meant to show compliance for the replacement seating system installed.

Standard No. 208 Occupant Crash Protection: Replacement of the driver's seating system, and addition of visual and audible seat belt warning devices to comply with the requirements of this standard.

Standard No. 209 Seat Belt Assemblies: Replacement of seatbelts as part of the driver's seating system installed to meet the requirements of FMVSS Nos. 207 and 208. The petitioner submitted test reports intended to indicate compliance with the standard after these modifications are performed.

Standard No. 210 Seat Belt Assembly Anchorages: Replacement of anchorages as part of the driver's seating system installed to meet the requirements of FMVSS Nos. 207 and 208. The petitioner submitted test reports intended to indicate compliance with the standard after these modifications are performed.

Standard No. 217 Bus Emergency Exits and Window Retention and Release: Installation of a compliant emergency escape hatch and emergency escape windows in a manner consistent with the requirements of this standard. Test reports were submitted meant to indicate that compliance with the standard can be achieved after these modifications are performed.

Standard No. 302 Flammability of Interior Materials: Inspection of each vehicle and removal and replacement of all interior components that do not conform to the requirements of this standard. Test reports meant to indicate compliance were submitted for interior materials present on the petition vehicle.

The petitioner additionally states that a certification label must be affixed to meet the requirements of 49 CFR part 567.

All comments received before the close of business on the closing date indicated above will be considered, and will be available for examination in the docket at the above addresses both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Jeffrey M. Giuseppe,
Acting Director, Office of Vehicle Safety Compliance.

[FR Doc. 2015-01203 Filed 1-23-15; 8:45 am]

BILLING CODE 4910-59-P